DEPARTMENT OF ENERGY

Federal Energy Regulatory Commission

Combined Notice of Filings

Take notice that the Commission has received the following Natural Gas Pipeline Rate and Refund Report filings:

Filings Instituting Proceedings

Docket Numbers: RP14-653-000.

Applicants: Transcontinental Gas Pipe Line Company.

Description: Negotiated Rates Trenton Woodbury to be effective 4/1/2014.

Filed Date: 3/28/14.

Accession Number: 20140328-5070.

Comments Due: 5 p.m. ET 4/9/14.

Docket Numbers: RP14-654-000.

Applicants: Transcontinental Gas Pipe Line Company.

Description: Negotiated Rates—Cherokee AGL—Replacement Shippers—Apr 2014 to be effective 4/1/2014.

Filed Date: 3/28/14.

Accession Number: 20140328-5083.

Comments Due: 5 p.m. ET 4/9/14.

Docket Numbers: RP14-655-000.

Applicants: El Paso Natural Gas Company, L.L.C.

Description: Non-Conforming Agreement Filing (Conoco FT276) to be effective 5/1/2014.

Filed Date: 3/28/14.

Accession Number: 20140328-5095.

Comments Due: 5 p.m. ET 4/9/14.

Docket Numbers: RP14-656-000.

Applicants: Rockies Express Pipeline LLC.

Description: Incidental Purchases and Sales Report.

Filed Date: 3/28/14.

Accession Number: 20140328-5130.

Comments Due: 5 p.m. ET 4/9/14.

Docket Numbers: RP14-657-000.

Applicants: Natural Gas Pipeline Company of America.

Description: Integrys Energy Negotiated Rate to be effective 4/1/2014.

Filed Date: 3/28/14.

Accession Number: 20140328-5211.

Comments Due: 5 p.m. ET 4/9/14.

Docket Numbers: RP14-658-000.

Applicants: Transcontinental Gas Pipe Line Company.

Description: Negotiated Rates Marketlink to be effective 4/1/2014.

Filed Date: 3/28/14.

Accession Number: 20140328-5246.

Comments Due: 5 p.m. ET 4/9/14.

Docket Numbers: RP14-659-000.

Applicants: Iroquois Gas Transmission System, L.P.

Description: 03/28/14 Negotiated Rates—United Energy Trading, LLC (RTS) 5095-23 to be effective 4/1/2014.

Filed Date: 3/28/14.

Accession Number: 20140328-5249.

Comments Due: 5 p.m. ET 4/9/14.

Docket Numbers: RP14-660-000.

Applicants: Tallgrass Interstate Gas Transmission, L.

Description: Neg Rate 2014-03-28 Valero/Aventine/Misc to be effective 4/1/2014.

Filed Date: 3/28/14.

Accession Number: 20140328-5258.

Comments Due: 5 p.m. ET 4/9/14.

Docket Numbers: RP14-661-000.

Applicants: Rockies Express Pipeline LLC.

Description: Neg Rate 2014-03-28 EOG, Encana NC NRA to be effective 4/1/2014.

Filed Date: 3/28/14.

Accession Number: 20140328-5268.

Comments Due: 5 p.m. ET 4/9/14.

Docket Numbers: RP14-662-000.

Applicants: Northern Border Pipeline Company.

Description: Compressor Usage Surcharge 2014 to be effective 5/1/2014.

Filed Date: 3/31/14.

Accession Number: 20140331-5072.

Comments Due: 5 p.m. ET 4/14/14.

Docket Numbers: RP14-663-000.

Applicants: Northern Border Pipeline Company.

Description: BP Canada Energy to be effective 4/1/2014.

Filed Date: 3/31/14.

Accession Number: 20140331-5073.

Comments Due: 5 p.m. ET 4/14/14.

Docket Numbers: RP14-664-000.

Applicants: Gulf Crossing Pipeline Company LLC.

Description: Cap Rel Neg Rate Agmts (Vanguard 598, 597 to Tenaska 1350, 1351) to be effective 4/1/2014.

Filed Date: 3/31/14.

Accession Number: 20140331-5078.

Comments Due: 5 p.m. ET 4/14/14.

Docket Numbers: RP14-665-000.

Applicants: Texas Gas Transmission, LLC.

Description: Neg Rate Agmt Filing (Anadarko 21939) to be effective 4/1/2014.

Filed Date: 3/31/14.

Accession Number: 20140331-5079.

Comments Due: 5 p.m. ET 4/14/14.

Docket Numbers: RP14-666-000.

Applicants: Bison Pipeline LLC.

Description: Bison Pipeline LLC Company Use Gas Annual Report..

Filed Date: 3/31/14.

Accession Number: 20140331-5085.

Comments Due: 5 p.m. ET 4/14/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP08-350-007.

Applicants: Southern Star Central Gas Pipeline, Inc.

Description: Southern Star Central Gas Pipeline, Inc. Annual Report—Non-HCA Pipeline and Storage Lateral Integrity Expenses.

Filed Date: 3/28/14.

Accession Number: 20140328-5054.

Comments Due: 5 p.m. ET 4/9/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 31, 2014.
Nathaniel J. Davis, Sr.,
Deputy Secretary.

[FR Doc. 2014-07792 Filed 4-7-14; 8:45 am]

BILLING CODE 6717-01-P